DEPARTMENT OF TRANSPORTATION

Federal Aviation Administration

Notice of Intent To Rule on Application To Impose and Use the Revenue From a Passenger Facility Charge (PFC) at Little Rock National Airport, Little Rock, AR

AGENCY: Federal Aviation Administration (FAA) DOT.

ACTION: Notice of Intent to Rule on Application.

SUMMARY: The FAA proposes to rule and invites public comment on the application to impose and use the revenue from a PFC at Little Rock National Airport under the provisions of the Aviation Safety and Capacity Expansion Act of 1990 (Title IX of the Omnibus Budget Reconciliation Act of 1990) (Public Law 101-508) and Part 158 of the Federal Aviation Regulations (14 CFR Part 158).

DATES: Comments must be received on or before May 24, 2001.

ADDRESSES: Comments on this application may be mailed or delivered in triplicate copies to the FAA at the following address: Mr. Dean A. McMath, Federal Aviation Administration, Southwest Region, Airports Division, Planning and Programming Branch, ASW-613, Fort Worth, Texas 76193-0610.

In addition, one copy of any comments submitted to the FAA must be mailed or delivered to Deborah H. Schwartz, Manager of Little Rock National Airport at the following address: Ms. Deborah H. Schwartz, Airport Manager, Little Rock National Airport, Number One Airport Drive, Little Rock, Arkansas 72202.

Air carriers and foreign air carriers may submit copies of the written comments previously provided to the Airport under Section 158.23 of Part 158.

FOR FURTHER INFORMATION CONTACT: Mr. Dean A. McMath, Federal Aviation Administration, Southwest Region, Airports Division, Planning and Programming Branch, ASW-613, Fort Worth, Texas 76193-0610, (817) 222-5617.

The application may be reviewed in person at this same location.

SUPPLEMENTARY INFORMATION: The FAA proposes to rule and invites public comment on the application to impose and use the revenue from a PFC at Little Rock National Airport under the provisions of the Aviation Safety and Capacity Expansion Act of 1990 (Title IX of the Omnibus Budget Reconciliation Act of 1990) (Public Law 101-508) and Part 158 of the Federal Aviation Regulations (14 CFR part 158).

On March 29, 2001, the FAA determined that the application to impose and use the revenue from a PFC submitted by the Airport was substantially complete within the requirements of Section 158.25 of Part 158. The FAA will approve or disapprove the application, in whole or in part, no later than June 29, 2001.

The following is a brief overview of the application.

Level of the proposed PFC: $4.50.

Proposed charge effective date: September 1, 2001.

Proposed charge expiration date: July 1, 2005.

Total estimated PFC revenue: $23,186,750.

PFC application number: 01-03-C-00-LIT.

Brief Description of Proposed Project(s)

Projects To Impose and Use PFC's

1. Acquire Snow Broom.

2. Acquire Rapid Response Vehicle.

3. Expand Terminal Ramp.

4. Construct Runway 4L-22R South Arresting System, Southwest Perimeter Road, and Extend Taxiway A.

5. Expand Cargo Ramp and Runway 22R Holding Apron.

6. Renovate Terminal Building.

7. PFC Development.

Projects To Impose PFC's

1. Extend Runway 4R-22L and Relocate Roosevelt Road and Grundfest Drive.

2. Acquire Property North and East of Airport.

Proposed class or classes of air carriers to be exempted from collecting PFC's: FAR Part 135 on demand air Taxi/Commercial Operator (ATCO) reporting on FAA Form 1800-31.

Any person may inspect the application in person at the FAA office listed above under FOR FURTHER INFORMATION CONTACT and at the FAA regional Airports office located at: Federal Aviation Administration, Southwest Region, Airports Division, Planning and Programming Branch, ASW-610, 2601 Meacham Blvd., Fort Worth, Texas 76137-4298.

In addition, any person may, upon request, inspect the application, notice and other documents germane to the application in person at Little Rock National Airport.

Issued in Fort Worth, Texas on March 29, 2001.
Naomi L. Saunders,
Manager, Airports Division.

[FR Doc. 01-10134 Filed 4-23-01; 8:45 am]

BILLING CODE 4910-13-M